LEGAL SERVICES CORPORATION

Sunshine Act Meeting

DATE AND TIME: The Finance Committee of the Legal Services Corporation's Board of Directors will meet telephonically on August 20, 2012. The meeting will commence at 4:00 p.m., Eastern Daylight Time, and will continue until the conclusion of the Committee's agenda.

Location: John N. Erlenborn Conference Room, Legal Services Corporation Headquarters, 3333 K Street NW., Washington, DC 20007.

Public Observation: Members of the public who are unable to attend in person but wish to listen to the public proceedings may do so by following the telephone call-in directions provided below but are asked to keep their telephones muted to eliminate background noises. To avoid disrupting the meeting, please refrain from placing the call on hold. From time to time, the presiding Chair may solicit comments from the public.

Call-In Directions for Open Sessions: • Call toll-free number: 1-866-451-4981;

• When prompted, enter the following numeric pass code: 5907707348;

• When connected to the call, please immediately “MUTE” your telephone.

Status Of Meeting: Open.

Matters To Be Considered:

1. Approval of agenda

2. Consider and act on FY 2014 Budget Request

3. Public comment

4. Consider and act on other business

5. Consider and act on motion to adjourn the meeting

CONTACT PERSON FOR INFORMATION: Katherine Ward, Executive Assistant to the Vice President & General Counsel, at (202) 295-1500. Questions may be sent by electronic mail to FR_NOTICE_QUESTIONS@lsc.gov.

Non-Confidential Meeting Materials: Non-confidential meeting materials will be made available in electronic format at least 24 hours in advance of the meeting on the LSC Web site, at http://www.lsc.gov/board-directors/meetings/board-meeting-notices/non-confidential-materials-be-considered-open-session.

Accessibility: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: August 10, 2012.
Victor M. Fortuno,
Vice President & General Counsel.

[FR Doc. 2012-20043 Filed 8-10-12; 4:15 pm]

BILLING CODE 7050-01-P